DEPARTMENT OF TRANSPORTATION

Federal Highway Administration

23 Parts 450 and 1410

Federal Transit Administration

23 CFR Part 1410

49 CFR Parts 613 and 621

[FHWA Docket No. FHWA-99-5933]

FHWA RIN 2125-AE62; FTA RIN 2132-AA66

Statewide Transportation Planning; Metropolitan Transportation Planning

AGENCIES: Federal Highway Administration (FHWA), Federal Transit Administration (FTA), DOT.

ACTION: Notice of proposed rulemaking (NPRM); extension of comment period.

SUMMARY: This document extends this rulemaking's comment period until September 23, 2000. This is in response to numerous letters received by the FHWA and the FTA from State Departments of Transportation, transit operators, and metropolitan planning organizations requesting an extension of the comment period from the closing date. These groups based their requests on the time required to access the impact of these rules on the nation's highway and transit systems and provide meaningful comments.

EFFECTIVE DATE: Comments to the NPRM should be received no later than September 23, 2000. Late comments will be considered to the extent practicable.

ADDRESSES: All signed, written comments must refer to the docket number appearing at the top of this document and must be submitted to the Docket Clerk, U.S. DOT Dockets, Room PL-401, 400 Seventh Street, SW., Washington, D.C. 20590-0001. All comments received will be available for examination at the above address between 9 a.m. and 5 p.m., e.t., Monday through Friday, except Federal holidays. Those desiring notification of receipt of comments must include a self-addressed, stamped envelope or postcard.

FOR FURTHER INFORMATION CONTACT: For the FHWA: Mr. Sheldon Edner, Metropolitan Planning and Policies Team (HEPM), (202) 366-4066 (metropolitan planning), Mr. Dee Spann, Statewide Planning Team (HEPS), (202) 366-4086 (statewide planning), or Mr. Reid Alsop, Office of the Chief Counsel (HCC-31), (202) 366-1371. For the FTA: Mr. Charles Goodman, Metropolitan Planning Division (TPL-12) (metropolitan planning), (202) 366-1944, Mr. Paul Verchninsk, Statewide Planning Division (TPL-11) (statewide planning), (202) 366-6385, or Mr. Scott Biehl, Office of the Chief Counsel (TCC-30), (202) 366-0952. Both agencies are located at 400 Seventh Street, SW., Washington, D.C. 20590. Office hours for the FHWA are from 7:45 a.m. to 4:15 p.m. e.t., and for the FTA are from 8:30 a.m. to 5 p.m., e.t., Monday through Friday, except Federal holidays.

SUPPLEMENTARY INFORMATION: On May 25, 2000 (65 FR 33922), the FHWA and the FTA published an NPRM proposing to revise their regulations governing the developing of transportation plans and programs for urbanized (metropolitan) areas and statewide transportation plans and programs. These revisions are a product of statutory changes made by the Transportation Equity Act for the 21st Century (TEA-21) (Pub. L. 105-178, 112 Stat. 107) enacted on June 9, 1998, and generally would revise existing regulatory language to make it consistent with current statutory requirements.

The FHWA and the FTA have received requests from the American Association of State Highway and Transportation Officials, the American Public Transportation Association, the Association of Metropolitan Planning Organizations, and several State Departments of Transportation to extend the comment period. These groups voiced concerns that the proposed rule was extremely complex and that 90 days was insufficient time to assess the impact of the proposed rules and provide meaningful comments. We agree that more time for an in-depth analysis of the NPRM would be beneficial to the FHWA and the FTA in this rulemaking. For these reasons, the FHWA and the FTA find good cause to extend this NPRM comment period closing date by 30 days.

Authority: 23 U.S.C. 134, 135 and 315; 42 U.S.C. 7410 et seq.; 49 U.S.C. 5303-5309; 49 CFR 1.48 and 1.51.

Issued on: June 30, 2000.
Kenneth R. Wykle,
Federal Highway Administrator.
Nuria I. Fernandez,
Federal Transit Deputy Acting Administrator.

[FR Doc. 00-17158 Filed 7-6-00; 8:45 am]

BILLING CODE 4910-22-M